DEPARTMENT OF TRANSPORTATION

Federal Aviation Administration

[Policy Statement Number PS-ACE100-2005-10039]

Standardization and Clarification of Application of 14 CFR Part 23, §§ 23.1301 and 23.1309, Regarding Environmental Qualification

AGENCY: Federal Aviation Administration, DOT.

ACTION: Notice of issuance of policy statement.

SUMMARY: This notice announces the issuance of a Federal Aviation Administration (FAA) policy. The policy standardizes and clarifies the FAA application of 14 CFR part 23, sections 23.1301 and 23.1309, Amendment 23-41 or later for environmental qualification. This notice is necessary to advise the public, especially manufacturers of normal, utility, and acrobatic category airplanes, and commuter category airplanes and their suppliers, that the FAA has adopted the policy.

DATES: Policy statement PS-ACE100-2005-10039 was issued by the Manager of the Small Airplane Directorate on February 16, 2006.

How to Obtain Copies: A paper copy of the policy statement may be obtained by writing to the following: Small Airplane Directorate, Standards Office (ACE-110), Aircraft Certification Service, Federal Aviation Administration, 901 Locust Street, Room 301, Kansas City, MO 64106. The policy statement will also be available on the Internet at the following address http://www.faa.gov/regulations_policies/.

FOR FURTHER INFORMATION CONTACT: Ervin Dvorak, Federal Aviation Administration, Small Airplane Directorate, Regulations & Policy, ACE-111, 901 Locust Street, Room 301, Kansas City, Missouri 64106; telephone: (316) 329-4123; fax: 816-329-4090; e-mail: erv.dvorak@faa.gov.

SUPPLEMENTARY INFORMATION:

Background

We announced the availability of the policy statement on December 8, 2005 (70 FR 73059). We revised the policy in response to the comments, and the policy has been adopted.

Issued in Kansas City, Missouri on March 10, 2006.
Kim Smith,
Manager, Small Airplane Directorate, Aircraft Certification Service.

[FR Doc. E6-4022 Filed 3-20-06; 8:45 am]

BILLING CODE 4910-13-P